DEPARTMENT OF ENERGY

Bonneville Power Administration

Albany-Eugene Transmission Line Rebuild Project

AGENCY: Bonneville Power Administration (BPA), Department of Energy (DOE).

ACTION: Notice of Availability of Record of Decision (ROD).

SUMMARY: This notice announces the availability of the ROD to implement the Proposed Action Alternative, based on the Albany-Eugene Transmission Line Rebuild Project (DOE/EIS-0457, March 2012). BPA has decided to rebuild a 32-mile section of the existing Albany-Eugene 115-kV transmission line that extends from the Albany Substation in the City of Albany in Linn County, Oregon, to the Alderwood Tap near Junction City in Lane County, Oregon. Rebuild activities will include removing and replacing existing wood-pole structures and associated structural components and conductors, establishing better access to the line, improving access roads, developing staging areas for storage of materials, removing vegetation including danger trees, and revegetating areas disturbed by construction activities. The existing structures will be replaced with structures of similar design within or near to their existing locations. The line will continue to operate at 115 kV.

ADDRESSES: Copies of the ROD and EIS may be obtained by calling BPA's toll-free document request line, 1-800-622-4520. The ROD and EIS Summary are also available on our Web site, www.efw.bpa.gov.

FOR FURTHER INFORMATION CONTACT: Douglas Corkran, Bonneville Power Administration—KEC-4, P.O. Box 3621, Portland, Oregon 97208-3621; toll-free telephone number 1-800-622-4519; fax number 503-230-5699; or email dfcorkran@bpa.gov.

Issued in Portland, Oregon, on June 1, 2012
Stephen J. Wright,
Administrator and Chief Executive Officer.

[FR Doc. 2012-14400 Filed 6-12-12; 8:45 am]

BILLING CODE 6450-01-P